ENVIRONMENTAL PROTECTION AGENCY

[FRL-9982-01-Region 5]

Proposed Prospective Purchaser Agreements for the Greenpoint Landfill Site, the Saginaw Malleable Industrial Land Site and the Saginaw Malleable Peninsula Site in Saginaw, Michigan

AGENCY: Environmental Protection Agency (EPA).

ACTION: Notice; request for public comment.

SUMMARY: In accordance with the Prospective Purchaser Agreements, notice is hereby given of a proposed administrative settlement concerning the Greenpoint Landfill Site, the Saginaw Malleable Industrial Land Site and the Saginaw Malleable Peninsula Site all located in Saginaw, Michigan with the following Settling Parties: Michigan Department of Natural Resources and Saginaw County. The settlements require the Settling Parties to, if necessary, execute and record a Declaration of Restrictive Covenant; provide access to the Sites and exercise due care with respect to existing contamination. The settlement includes a covenant not to sue the Settling Parties pursuant to the Comprehensive Environmental Response, Compensation, and Liability Act or the Resource Conservation and Recovery Act with respect to the Existing Contamination. Existing Contamination is defined as any hazardous substances, pollutants, or contaminants or Waste Material (1) present or existing on or under the Site as of the Effective Date of the Settlement Agreement; (2) that migrated from the Site prior to the Effective Date; and (3) presently at the Site that migrates onto, on, under, or from the Site after the Effective Date.

For thirty (30) days following the date of publication of this notice, the Agency will receive written comments relating to the settlements. The Agency will consider all comments received and may modify or withdraw its consent to one or all of the settlements if comments received disclose facts or considerations which indicate that a settlement or settlements are inappropriate, improper, or inadequate. The Agency's response to any comments received will be available for public inspection at the EPA, Region 5, Records Center, 77 W Jackson Blvd., 7th Fl., Chicago, Illinois 60604. Commenters may request an opportunity for a public hearing in the affected area, in accordance with Section 7003(d) of RCRA.

DATES: Comments must be submitted September 12, 2018.

ADDRESSES: The proposed settlement is available for public inspection at the EPA, Region 5, Records Center, 77 W Jackson Blvd., 7th Fl., Chicago, Illinois 60604. A copy of a proposed settlement may be obtained from Peter Felitti, Assoc. Regional Counsel, EPA, Office of Regional Counsel, Region 5, 77 W Jackson Blvd., Mail Code: C-14J, Chicago, Illinois 60604. Comments should reference the Site in question and should be addressed to Peter Felitti, Assoc. Regional Counsel, EPA, Office of Regional Counsel, Region 5, 77 W Jackson Blvd., Mail Code: C-14J, Chicago, Illinois 60604.

FOR FURTHER INFORMATION CONTACT: Peter Felitti, EPA, Office of Regional Counsel, Region 5, 77 W Jackson Blvd., Mail Code: C-14J, Chicago, Illinois 60604.

SUPPLEMENTARY INFORMATION: The Settling Parties propose to acquire ownership of the three former General Motors Corporation North American facilities, at 3300 Salt Road, Saginaw, Michigan, 77 and 79 West Center Street in Saginaw, Michigan. Each Site is one of the 89 sites that were placed into an Environmental Response Trust (the “Trust”) as a result of the resolution of the 2009 GM bankruptcy. The Trust is administrated by Revitalizing Auto Communities Environmental Response.

Dated: July 31, 2018.
Douglas E. Ballotti,
Acting Director, Superfund Division.

[FR Doc. 2018-17370 Filed 8-10-18; 8:45 am]

BILLING CODE 6560-50-P